DEPARTMENT OF AGRICULTURE

Commodity Credit Corporation

Notice of Request for Extension of a Currently Approved Information Collection

AGENCY: Commodity Credit Corporation, USDA.

ACTION: Notice and request for comments.

SUMMARY: In accordance with the Paperwork Reduction Act of 1995, this notice announces the Commodity Credit Corporation's (CCC) intention to request an extension for a currently approved information collection in support of the CCC Facility Guarantee Program (FGP) based on re-estimates.

DATES: Comments on this notice must be received by September 5, 2000 to be assured of consideration.

ADDITIONAL INFORMATION OR COMMENTS: Contact Merle Brown, Director, Program Administration Division, Foreign Agricultural Service, U.S. Department of Agriculture, AgStop 1031, Washington, DC 20250-1031, telephone (202) 720-3573.

SUPPLEMENTARY INFORMATION: Title: CCC Facility Guarantee Program (FGP).

OMB Number: 0551-0032.

Expiration Date of Approval: February 28, 2001.

Type of Request: Extension of a currently approved information collection.

Abstract: The primary objective of the FGP is to expand U.S. agricultural exports by improving agricultural infrastructure in importing countries. The FGP makes available export credit guarantees to encourage U.S. private sector financing of foreign purchases of U.S. goods and services on credit terms. The CCC currently offers the FGP for exports to at least 3 countries and 7 country regions. The FGP information collection is similar to those for the Export Credit Guarantee Program (GSM-102) and the Intermediate Export Credit Guarantee Program (GSM-103) (OMB control number 0551-004). The information collection for the FGP differs primarily as follows:

(1) The applicant, in order to receive a payment guarantee, provides information evidencing that the exported goods and services used to develop improved infrastructure will primarily benefit exports of U.S. agricultural commodities and products;

(2) The applicant is required to certify that the value of non-U.S. components of good and services is less than 50 percent of the contract value covered under the payment guarantee.

In addition, each exporter and exporter's assignee (U.S. financial institution) must maintain records on all information submitted to CCC and in connection with sales made under the FGP. The information collected is used by CCC to manage, plan, evaluate and account for government resources. The reports and records are required to ensure the proper and judicious use of public funds.

Estimate of Burden: The public reporting burden of these collections is estimated to average 3.88 hours per response.

Respondents: Exporters of U.S. agricultural commodities, banks or other financial institutions, producer associations, export trade associations, and U.S. Government agencies.

Estimated Number of Respondents: 58 per annum.

Estimated Number of Responses per Respondent: 1.14 per annum.

Estimated Total Annual Burden of Respondents: 256 hours.

Copies of this information collection can be obtained from Kimberly Chisley, the Agency Information Collection Coordinator, at (202) 720-2568.

Request for Comments: Send comments regarding (a) Whether the proposed collection of information is necessary for the proper performance of the functions of the agency, including whether the information will have practical utility; (b) the accuracy of the agency's estimate of the burden of the proposed collection of information; (c) ways to enhance the quality, utility and clarity of the information to be collected; and (d) ways to minimize the burden of the collection of information on those who are to respond, including through the use of automated, electronic, mechanical, or other technological collection techniques or other forms of information technology. Comments may be sent to Merle Brown, Director, Program Administration Division, Foreign Agricultural Service, U.S. Department of Agriculture, AgStop 1031, Washington, DC 20250-1031, or to the Desk Officer for Agriculture, Office of Information and Regulatory Affairs, Office of Management and Budget, Washington, DC 20503. Persons with disabilities who require an alternative means for communication of information (Braille, large print, audiotape, etc.) should contact USDA's Target Center at (202) 720-2600 (voice and TDD).

All responses to this notice will be summarized and included in the request for OMB approval.

All comments will also become a matter of public record.

Signed at Washington, D.C. on June 28, 2000.
Richard Fritz,
General Sales Manager, Foreign Agricultural Service.

[FR Doc. 00-16891 Filed 7-3-00; 8:45 am]

BILLING CODE 3410-10-M